DEPARTMENT OF AGRICULTURE

Forest Service

Plumas National Forest; California; Stream Fire Restoration Project

AGENCY: Forest Service, USDA.

ACTION: Revised notice of intent.

Responsible Official and Lead Agency

Plumas National Forest Supervisor Jim Peña is the responsible official.

Dated: December 10, 2002.
Robert G. Macwhorter,
Deputy Forest Supervisor.

[FR Doc. 02-31639 Filed 12-16-02; 8:45 am]

BILLING CODE 3410-11-M